DEPARTMENT OF HEALTH AND HUMAN SERVICES

Centers for Disease Control and Prevention

CDC/HRSA Advisory Committee on HIV, Viral Hepatitis and STD Prevention and Treatment

AGENCY: Centers for Disease Control and Prevention (CDC), Department of Health and Human Services (HHS).

ACTION: Notice of meeting.

SUMMARY: In accordance with regulatory provisions, the Centers for Disease Control and Prevention (CDC) and the Health Resources and Services Administration (HRSA) announce the following meeting for the CDC/HRSA Advisory Committee on HIV, Viral Hepatitis and STD Prevention and Treatment (CHAC). This meeting is open to the public, limited only by the number of audio and web conference lines (1,000 audio and web conference lines are available). Members of the public are welcome to listen to the meeting by accessing the telephone number and web access provided in the addresses section below. Time will be available for public comment (registration is required to provide oral comment).

DATES: The meeting will be held on April 18 and 19, 2023, from 9 a.m. to 4:30 p.m., EDT. Written comments must be submitted by April 28, 2023. Registration to make oral comments must be submitted by April 4, 2023.

ADDRESSES: The telephone access number is 1-669-254-5252, Webinar ID: 160 343 1340, and the Passcode is 59009399. The web conference access is https://cdc.zoomgov.com/j/1603431340?pwd=VnB3SmRrRFA0OWF2bUpVMGgzbW51QT09, and the Passcode is .6*m=vQb. The number of available audio and web conference lines is 1,000.

FOR FURTHER INFORMATION CONTACT: Marah Condit, MS, Committee Management Lead, National Center for HIV, Viral Hepatitis, STD, and TB Prevention, CDC, 1600 Clifton Road NE, Mailstop US8-6, Atlanta, Georgia 30329-4027; Telephone: (404) 639-3423; Email: nchhstppolicy@cdc.gov.

SUPPLEMENTARY INFORMATION:

Purpose: The CDC/HRSA Advisory Committee on HIV, Viral Hepatitis and STD Prevention and Treatment (CHAC) is charged with advising the Secretary of Health and Human Services, the Director, CDC, and the Administrator, HRSA, regarding objectives, strategies, policies, and priorities for HIV, viral hepatitis, and STD prevention and treatment efforts including (1) surveillance; (2) epidemiologic, behavioral, health services, and laboratory research; (3) identification of policy issues and opportunities related to prevention and treatment including but not limited to professional education, healthcare delivery, social determinants of health, research, and prevention and treatment services; (4) strategic issues influencing the ability of CDC and HRSA to fulfill their missions; (5) development and implementation of federal programs focused on prevention and treatment; and (6) provide support to the agencies in their response to emerging health needs.

Matters To Be Considered: The agenda will include discussions on (1) sexual health, (2) equitable scale-up of interventions, (3) mpox, and (4) youth and STD testing. Agenda items are subject to change as priorities dictate.

Public Participation

Written Public Comment: Members of the public are welcome to submit written comments in advance of the meeting. Written comments must be submitted by emailing nchhstppolicy@cdc.gov with subject line “Spring CHAC Public Comment Registration” by April 28, 2023.

Oral Public Comment: Individuals who would like to make an oral comment during the public comment period must register by emailing nchhstppolicy@cdc.gov with subject line “Spring CHAC Public Comment Registration” by April 4, 2023. The public comment period is on April 18, 2023, 3:45 p.m., EDT.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-04044 Filed 2-27-23; 8:45 am]

BILLING CODE 4163-18-P